NUCLEAR REGULATORY COMMISSION

Regulatory Guide and Standard Review Plan Chapter; Issuance, Availability

The Nuclear Regulatory Commission has issued revisions to a regulatory guide and its conforming standard review plan chapter. The Regulatory Guide Series has been developed to describe and make available to the public such information as methods acceptable to the NRC staff for implementing specific parts of the NRC's regulations, techniques used by the staff in evaluating specific problems or postulated accidents, and data needed by the staff in its review of applications for permits and licenses.

Revision 1 of Regulatory Guide 1.174, “An Approach for Using Probabilistic Risk Assessment in Risk-Informed Decisions on Plant-Specific Changes to the Licensing Basis,” provides guidance acceptable to the NRC staff on the use of probabilistic risk assessment (PRA) findings and risk insights in support of licensee requests for changes to a nuclear power plant's licensing basis.

Revision 1 of Standard Review Plan Chapter 19, “Use of Probabilistic Risk Assessment in Plant-Specific, Risk-Informed Decisionmaking: General Guidance,” identifies the roles and responsibilities within the NRC that participate in risk-informed reviews of licensees' proposals for changes to the licensing basis of nuclear power plants.

Comments and suggestions in connection with items for inclusion in guides currently being developed or improvements in all published guides are encouraged at any time. Written comments may be submitted to the Rules and Directives Branch, Division of Administrative Services, Office of Administration, U.S. Nuclear Regulatory Commission, Washington, DC 20555.

Regulatory guides and standard review plan chapters are available for inspection or downloading at the NRC's Web site at http://www.nrc.gov in NRC's Electronic Reading Room under Regulatory Guides and in the ADAMS System at the same site. Single copies of regulatory guides may be obtained free of charge by writing the Reproduction and Distribution Services Section, U.S. Nuclear Regulatory Commission, Washington, DC 20555-0001, or by fax to (301) 415-2289, or by e-mail to distribution@nrc.gov. Issued guides may also be purchased from the National Technical Information Service on a standing order basis. Details on this service may be obtained by writing NTIS, 5285 Port Royal Road, Springfield, VA 22161. Regulatory guides are not copyrighted, and Commission approval is not required to reproduce them.

(5 U.S.C. 552(a))
Dated at Rockville, Maryland, this 15th day of November 2002.
For the Nuclear Regulatory Commission.
Ashok C. Thadani,
Director, Office of Nuclear Regulatory Research.

[FR Doc. 02-30705 Filed 12-3-02; 8:45 am]

BILLING CODE 7590-01-P